DEPARTMENT OF JUSTICE

Disability Rights Section, Civil Rights Division; Agency Information Collection Activities Under Review

ACTION: Notice of extension of currently approved information collection; nondiscrimination on the basis of disability in State and local government services (certification).

The Department of Justice, Civil Rights Division, Disability Rights Section, has submitted the following information collection request for review and clearance in accordance with the Paperwork Reduction Act of 1995. This proposed information collection is published to obtain comments from the public and affected agencies. Comments are encouraged and will be accepted for “sixty days” until October 3, 2000.

If you have comments, suggestions, or need a copy of the proposed information collection instrument with instructions, or additional information, please contact John Wodatch, Chief, Disability Rights Section, Civil Rights Division, by calling (800) 514-0301 (Voice) or (800) 514-0383 (TTY) (the Division's ADA Information Line), or write him at U.S. Department of Justice, P.O. Box 66738, Washington, DC 20035-6738.

Written comments and suggestions from the public and affected agencies concerning the proposed collection of information should address one or more of the following four points:

(1) Evaluate whether the collection of information is necessary for the proper performance of the function of the agency, including whether the information will have practical utility;

(2) Evaluate the accuracy of the agencies estimate of the burden of the collection of information;

(3) Enhance the quality, utility, and clarity of the information to be collected; and

(4) Minimize the burden of the collection of information on those who are to respond, including through the use of appropriate automated, electronic, mechanical, or other technological collection techniques or other forms of information technology (e.g., permitting electronic submission of responses).

Overview of This Information Collection Is Listed Below

(1) Type of information collection. Extension of Currently Approved Collection.

(2) The title of the form/collection. Nondiscrimination on the Basis of Disability in State and Local Government Services (Certification).

(3) The agency form number and applicable component of the Department sponsoring the collection. No form number. Disability Rights Section, Civil Rights Division, U.S. Department of Justice.

(4) Affected public who will be asked to respond, as well as a brief abstract: Primary: State, Local or Tribal Government. Under title III of the Americans with Disabilities Act, on the application of a State or local government, the Assistant Attorney General for Civil Rights (or his or her designee) may certify that a State or local building code or similar ordinance that establishes accessibility requirements (Code) meets or exceeds the minimum requirements of the ADA for accessibility and usability of “places of public accommodation” and “commercial facilities.”

(5) An estimate of the total number of respondents and the amount of time estimated for an average respondent to respond: 10 respondents per year at 32 hours per certification.

(6) An estimate of the total public burden (in hours) associated with the collection: 320 hours annual burden.

If additional information is required contact: Ms. Brenda E. Dyer, Deputy Clearance Officer, United States Department of Justice, Information Management and Security Staff, Justice Management Division, Suite 1220, National Place Building, 1331 Pennsylvania Avenue, N.W., Washington, DC 20530.

Dated: July 31, 2000.
Brenda E. Dyer,
Department Deputy Clearance Officer, Department of Justice.

[FR Doc. 00-19774 Filed 8-3-00; 8:45 am]

BILLING CODE 4410-13-M